DEPARTMENT OF TRANSPORTATION

Federal Aviation Administration

14 CFR Part 39

[Docket No. FAA-2015-0828; Directorate Identifier 2014-NM-146-AD; Amendment 39-18341; AD 2015-25-03]

RIN 2120-AA64

Airworthiness Directives; The Boeing Company Airplanes

Correction

In rule document 2015-30881, appearing on pages 80242-80247, in the Issue of Thursday, December 24, 2015, make the following correction:

Beginning in the second column, under the heading “Request to Add Terminating Action” on page 80243 and continuing to the end of the document, the entry “Boeing Alert Service Bulletin 747-57A2443” is corrected to read “Boeing Alert Service Bulletin 747-57A2343”.

[FR Doc. C1-2015-30881 Filed 1-7-16; 8:45 am]

BILLING CODE 1505-01-D